ENVIRONMENTAL PROTECTION AGENCY

40 CFR Part 147

[EPA-HQ-OW-2025-0087; FRL 11786-01-OW]

Arizona Underground Injection Control (UIC) Program; Class I-VI Primacy

AGENCY: Environmental Protection Agency (EPA).

ACTION: Proposed rule.

SUMMARY: The U.S. Environmental Protection Agency (EPA or Agency) has received a complete Underground Injection Control (UIC) primacy application from the State of Arizona requesting primary enforcement responsibility (primacy) for Class I-VI injection wells under the Safe Drinking Water Act (SDWA) section 1422. The EPA's approval of the State's UIC program primacy application would allow the Arizona Department of Environmental Quality (ADEQ) to authorize underground injection for all underground injection wells regulated under the Federal SDWA and ensure compliance with UIC program requirements. The EPA proposes to issue a final rule approving Arizona's application to implement the UIC program for Class I-VI injection wells located within the State, except those on Indian lands. The EPA proposes amendments to reflect this proposed approval of Arizona's UIC program primacy application.

DATES: Comments must be received on or before July 3, 2025. Public hearing: The EPA will hold one virtual public hearing during the comment period. Please refer to the SUPPLEMENTARY INFORMATION section for additional information on the public hearing.

ADDRESSES: You may send comments, identified by Docket ID No. EPA-HQ-OW-2025-0087 by any of the following methods:

• Federal eRulemaking Portal: https://www.regulations.gov/ (our preferred method). Follow the online instructions for submitting comments.

• Mail: U.S. Environmental Protection Agency, EPA Docket Center, Water Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday through Friday (except Federal Holidays).

Instructions: All submissions received must include the Docket ID No. for this rulemaking. Comments received may be posted without change to https://www.regulations.gov/, including personal information provided. For detailed instructions on sending comments and additional information on the rulemaking process, see the “Public Participation” heading of the SUPPLEMENTARY INFORMATION section of this document.

FOR FURTHER INFORMATION CONTACT: Suzanne Kelly, Drinking Water Infrastructure Development Division, Office of Ground Water and Drinking Water (4606M), Environmental Protection Agency, 1200 Pennsylvania Ave. NW, Washington, DC 20460; telephone number: (202) 564-3887; or Kate Rao, Water Division, Groundwater Protection Section (WTR-4-2), Environmental Protection Agency, Region 9, 75 Hawthorne Street, San Francisco, CA 94105; telephone number: (415) 972-3533. Both can be reached by emailing UICprimacy@epa.gov.

SUPPLEMENTARY INFORMATION:

Table of Contents

I. Public Participation

A. Written Comments

B. Participation in Virtual Public Hearing

C. Public Participation Activities Conducted by Arizona

1. UIC Program Development Stakeholder Engagement

2. State Rulemaking

3. Proposal To Request UIC Program Primacy

II. Introduction

A. UIC Program and Primary Enforcement Authority (Primacy)

B. Class I-VI Wells Under the UIC Program

III. Legal Authorities

IV. The EPA's Evaluation of Arizona's Primacy Application

A. Background

B. Summary of the EPA's Comprehensive Evaluation

V. The EPA's Proposed Action

A. Incorporation By Reference

VI. Statutory and Executive Order Reviews

A. Executive Order 12866: Regulatory Planning and Review

B. Executive Order 14192: Unleashing Prosperity Through Deregulation

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health and Safety Risks

I. Executive Order 13211: Actions Concerning Regulations That Significantly Affect Energy Supply, Distribution, or Use

J. National Technology Transfer and Advancement Act (NTTAA)

VII. References

I. Public Participation

A. Written Comments

Submit your comments, identified by Docket ID No. EPA-HQ-OW-2025-0087, at https://www.regulations.gov (our preferred method), or the other methods identified in the ADDRESSES section. Once submitted, comments cannot be edited or removed from the docket. The EPA may publish any comment received to its public docket. Do not submit to the EPA's docket at https://www.regulations.gov any information you consider to be Confidential Business Information (CBI), Proprietary Business Information (PBI), or other information whose disclosure is restricted by statute. If you need to submit CBI, contact Kate Rao with the contact information available in the FOR FURTHER INFORMATION CONTACT section. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

B. Participation in Virtual Public Hearing

The EPA will hold one virtual public hearing during the public comment period. To register to speak at the virtual hearing, please use the online registration form available at https://www.epa.gov/uic/az-primacy or contact us by email at UICprimacy@epa.gov. One week prior to the public hearing, the EPA will post a general agenda for the hearing that will list pre-registered speakers in approximate order at: https://www.epa.gov/uic/az-primacy. Please refer to https://www.epa.gov/uic/az-primacy for additional updates, including the date and time, related to this public hearing.

The EPA will make every effort to follow the schedule as closely as possible on the day of the hearing; however, please plan for the hearings to run either ahead of schedule or behind schedule. Each commenter will have three minutes to provide oral testimony. The EPA encourages commenters to provide the EPA with a copy of their oral testimony electronically by emailing it to UICprimacy@epa.gov. The EPA also recommends submitting the text of your oral comments as written comments to the rulemaking docket. The EPA will make every effort to accommodate all speakers who register, although preferences on speaking times may not be able to be fulfilled.

The EPA may ask clarifying questions during the oral presentations but will not respond to the presentations at that time. Written statements and supporting information submitted during the comment period will be considered with the same weight as oral comments and supporting information presented at the public hearing.

Updates on the virtual hearing logistics will be posted online at https://www.epa.gov/uic/az-primacy. Please contact Kate Rao at (415) 972-3533 or email UICprimacy@epa.gov with any questions about the virtual hearing. The EPA does not intend to publish a document in the Federal Register announcing updates related to the public hearing. If you require the services of an interpreter or special accommodations such as audio description, please pre-register for the hearing at https://www.epa.gov/uic/az-primacy and describe your needs at least one week prior to the public hearing date. The EPA may not be able to arrange accommodations without advance notice.

C. Public Participation Activities Conducted by Arizona

1. UIC Program Development Stakeholder Engagement

In order to have State regulatory authority in place prior to seeking EPA approval of its UIC program, ADEQ conducted stakeholder outreach and engagement to inform the general public, the regulated community, and Tribes of ADEQ's rule development process and to explain and present drafts of the State rules. ADEQ held nine general stakeholder and three Tribal consultation events from December 2017 to October 2019. ADEQ received and considered hundreds of comments from the regulated community and other stakeholders.

2. State Rulemaking

On October 1, 2021, ADEQ filed a notice of imminent SDWA-UIC rulemaking with the Arizona Secretary of State intending to adopt the UIC program. On January 7, 2022, ADEQ filed three notices of proposed rulemaking for licensing time frames and UIC program rules and fees, which were followed by a comment period of more than 30 days. ADEQ held a public hearing on February 14, 2022, the final day of the written comment period. No audio recording or transcript was taken; however, the State captured all the oral hearing comments along with the written comments in the responsiveness summary. ADEQ received a total of 77 discrete written and oral comments on the proposed rules. Commenters shared concerns on licensing time frames, fees, drywells, underground storage or recharge facilities, UIC septic regulation, program scope or jurisdiction, and Tribal consultation, among other topics. ADEQ considered all the comments and adjusted the proposed rules as summarized in the responsiveness summary. The Arizona UIC regulations became effective on September 6, 2022.

3. Proposal To Request UIC Program Primacy

On October 15, 2023, ADEQ published notice in two Arizona newspapers, through its website, and by email distribution to stakeholders, seeking public comment on the State's proposed application for primacy for the UIC program. ADEQ held a public comment period from October 15, 2023, to November 20, 2023, on the State's intent to seek primacy. ADEQ also held a virtual public hearing on November 20, 2023. ADEQ received 1 oral comment and 21 discrete written comments. The commenters shared concerns with the primacy application including language regarding aquifer exemptions, permit transition upon primacy, Federal UIC policies, permit templates, regulatory differences between the State's Aquifer Protection Program and the SDWA's UIC program, and minor editorial comments such as incorrect cross references. These comments were considered and addressed by ADEQ as summarized in the responsiveness summary and did not result in any significant changes to the proposed primacy application.

Documentation of Arizona's public participation activities, including comments received and responses by ADEQ, can be found in the EPA's Docket ID No. EPA-HQ-OW-2025-0087.

II. Introduction

A. UIC Program and Primary Enforcement Authority (Primacy)

The SDWA protects public health by regulating the nation's public drinking water supply, including both surface and groundwater sources. The SDWA requires the EPA to develop minimum requirements for effective State and Tribal UIC programs to prevent underground injection of fluids (such as water, wastewater, brines from oil and gas production, and carbon dioxide) from endangering underground sources of drinking water (USDWs). USDWs are aquifers or parts of aquifers that supply a public water system or contain enough groundwater to supply a public water system. See 40 CFR 144.3. The UIC program regulates various aspects of injection. These include site characterization, construction, operation, and testing and monitoring through site closure, as well as permitting, site inspections, and reporting to ensure well owners and operators comply with UIC regulations.

SDWA section 1421 directs the EPA to establish requirements that States, territories, and federally recognized Tribes (hereafter referred to as applicants) must meet to be granted primary enforcement responsibility or “primacy” for implementing a UIC program. 42 U.S.C. 300h. An applicant seeking primacy under SDWA section 1422 for a UIC program must demonstrate to the EPA that the applicant's proposed UIC program meets the Federal requirements for protecting USDWs. 42 U.S.C. 300h-1. An applicant must also demonstrate jurisdiction over underground injection and possess the civil and criminal enforcement authorities required by EPA regulations. See 40 CFR part 145, subpart B. After the EPA approves an applicant for UIC program primacy, the applicant's UIC program may be revised with EPA approval. See 40 CFR 145.32.

The EPA evaluates each primacy application in accordance with SDWA section 1422 to determine whether the State has satisfactorily demonstrated that it has adopted, after reasonable notice and public hearings, and will implement a UIC program that meets the requirements of SDWA regulations at 40 CFR parts 144, 145, and 146.

B. Class I-VI Wells Under the UIC Program

The UIC program consists of six classes of injection wells. Each well class is based on the type and depth of the injection activity, and the potential for that injection activity to result in endangerment of a USDW. Class I wells are used to inject wastes into deep isolated rock formations. Class II wells are used to inject fluids related to oil and natural gas production. Most Class II wells are used to enhance recovery of oil and gas or to dispose into rock formations wastewater associated with oil or gas production. Class III wells are used to inject fluids to dissolve and extract minerals. Class IV wells are used to inject hazardous and radioactive wastes into or above USDWs and are only allowed as part of an EPA- or State-authorized ground water clean-up action. Class V wells are used to inject non-hazardous fluids underground, typically into or above a USDW, and range from simple shallow wells to complex experimental injection technologies. Most Class V wells are “low-tech” and depend on gravity to drain fluids directly below the land surface. Dry wells, cesspools, and septic system leach fields are examples of simple Class V wells. Because their construction often provides little or no pretreatment and these fluids are injected directly into or above a USDW, proper management is important. Class VI wells are used to inject carbon dioxide into deep rock formations for the purpose of long-term underground storage, also known as geologic sequestration.

The UIC program provides multiple safeguards that work together to protect USDWs and human health from injection activities. To operate an injection well, operators must receive authorization by permit or by rule through the UIC program. Operators must obtain a permit that authorizes injection in accordance with specific statutory and regulatory conditions. A draft of each permit is made available for public comment before issuance of the final permit. Qualifying Class V wells that meet certain requirements can be authorized by rule after the operator submits required information describing the injection activity, location, operating status, and operator contact information. All wells must be operated according to applicable UIC program requirements for the injection activity.

III. Legal Authorities

This regulation is proposed under authority of SDWA sections 1422 and 1450, 42 U.S.C. 300h-1 and 300j-9.

SDWA section 1421 requires the Administrator of the EPA to promulgate Federal requirements for effective State UIC programs to prevent underground injection activities that endanger USDWs. 42 U.S.C. 300h. SDWA section 1422 establishes requirements for applicants seeking EPA primacy approval of their UIC programs. 42 U.S.C. 300h-1. It also requires that applicants seeking primacy approval demonstrate how the applicant (after public notice) will implement a UIC program which meets the requirements that the EPA promulgated under section 1421. Id.

For applicants seeking primacy approval for UIC programs under SDWA section 1422, and those seeking EPA primacy approval of revisions to existing State and Tribal UIC programs, the EPA has promulgated regulations setting forth the applicable procedures and substantive requirements. The regulations in 40 CFR part 144 outline general program requirements that each State must meet to obtain primacy. The regulations in 40 CFR part 145 specify the procedures the EPA will follow in approving, revising, and withdrawing UIC programs and outlines the elements and provisions that an applicant must include in its application for primacy. Part 145 also includes requirements for State UIC permitting programs (by reference to certain provisions of 40 CFR parts 124 and 144), compliance evaluation programs, enforcement authority, and the sharing of information between the EPA and the State or Tribe. The regulations in 40 CFR part 146 contain the technical criteria and standards applicable to each well class.

IV. The EPA's Evaluation of Arizona's Primacy Application

A. Background

On February 16, 2024, Arizona applied to the EPA under SDWA section 1422 for primacy with respect to its UIC program for Class I, II, III, IV, V, and VI injection wells located within the State, except those located on Indian lands. Arizona's requirements for UIC wells would be codified and implemented in lieu of the Federal requirements currently in effect in the State. See 40 CFR part 147, subpart D. The UIC program primacy application from Arizona includes a letter from the Governor requesting UIC program approval, a complete description of the State's UIC program, an Attorney General's statement, copies of all applicable State statutes and regulations, a summary and the results of Arizona's public participation activities, and a Memorandum of Agreement (MOA) between Arizona and the EPA's Region 9 Office. The EPA reviewed the application for completeness and performed a technical and legal evaluation of the application materials to assess and confirm whether the proposed UIC program meets Federal requirements.

B. Summary of the EPA's Comprehensive Evaluation

The EPA evaluates primacy applications in accordance with SDWA section 1422 to determine whether an applicant has satisfactorily demonstrated that it has adopted after reasonable notice and public hearings, and will implement, a UIC program that meets the requirements of 40 CFR parts 144, 145, and 146. The EPA conducted a comprehensive technical and legal evaluation of Arizona's primacy application to determine whether the applicant's UIC program, including statutes and regulations, program description, Attorney General statement, MOA, and documentation of public participation, demonstrates that Arizona has met the requirements of SDWA section 1422. Upon review, the EPA determined that Arizona's primacy application demonstrates that the State has adopted after reasonable notice and public hearings, and will implement, a UIC program that meets the requirements of 40 CFR parts 144, 145, and 146.

The EPA evaluated Arizona's UIC program description for consistency with 40 CFR 145.23, which lists all the information that must be submitted as part of the program description. The EPA's evaluation of the UIC program description included reviewing the scope, structure, coverage, and processes of the State's program. The EPA evaluated Arizona's permitting, administrative, and judicial review procedures, as well as the State's permit application, reporting, and manifest forms. The EPA also reviewed the State's compliance evaluation program and enforcement authorities. The EPA required Arizona to demonstrate that the State's UIC program will have adequate in-house staff or access to contractor support for technical areas including site characterization, modeling, well construction and testing, financial responsibility, and regulatory and risk analysis.

The EPA evaluated Arizona's Attorney General's statement for consistency with 40 CFR 145.24. The Attorney General's statement is required to ensure that an applicant's top legal officer affirms that applicable statutes, regulations, and judicial decisions demonstrate adequate authority to administer the UIC program as described in the program description and consistent with the EPA's regulatory requirements for UIC programs. The EPA confirms that the Attorney General's statement certifies that Arizona's environmental audit privilege, which protects certain self-reported information, will not affect the ability of the State to meet the enforcement and information gathering requirements under the SDWA, nor will it prevent the public from obtaining information about noncompliance or prevent the public from bringing citizen suits under SDWA.

The EPA determined that the MOA met the Federal requirements at 40 CFR 145.25 and was duly signed on behalf of EPA Region 9 and ADEQ. The MOA is the central agreement setting the provisions and arrangements between the State and the EPA concerning the administration, implementation, and enforcement of the State UIC program. The EPA's evaluation includes ensuring that the MOA contains the necessary provisions pertaining to agreements on coordination, permitting, compliance monitoring, enforcement, and EPA oversight. Here, for example, the MOA specifies that ADEQ and the EPA agree to maintain a high level of cooperation and coordination to assure successful and effective administration of the UIC Program.

The EPA is aware that stakeholders in other States applying for Class VI primacy have previously raised concerns about geologic sequestration long-term liability transfer provisions. The EPA has confirmed in developing this proposed rule that Arizona does not have statutory provisions relating to long-term liability transfer.

Arizona has demonstrated that it has the legal authority to implement all UIC permit requirements found in 40 CFR 145.11. Arizona's UIC permitting provisions, established under SDWA section 1422, meet the minimum Federal requirements in 40 CFR parts 124 and 144 through 146. The State has incorporated necessary procedures pursuant to 40 CFR 145.12 to support a robust UIC compliance evaluation program. Additionally, Arizona has the necessary civil and criminal enforcement authorities pursuant to 40 CFR 145.13. Arizona's UIC regulations regarding permitting, inspection, operation, and monitoring meet Federal requirements found in 40 CFR parts 145 and 146. Arizona's reporting and recordkeeping requirements meet Federal requirements found in 40 CFR 144.54 and 40 CFR part 146.

As a result of this comprehensive review, the EPA is proposing to approve Arizona's primacy application because the EPA has determined that the application meets all applicable requirements for primacy approval under SDWA section 1422 and because the State has demonstrated that it is prepared to implement a UIC program in a manner consistent with the terms and purposes of SDWA and all applicable UIC regulations.

V. The EPA's Proposed Action

A. Incorporation by Reference

The EPA is proposing to approve the State of Arizona's UIC program primacy application for regulating Class I-VI injection wells in the State, except for those located on Indian lands. If finalized, this action would amend 40 CFR 147.150 and 147.151 and incorporate by reference Arizona's EPA-approved statutes and regulations that contain standards, requirements, and procedures applicable to UIC well owners or operators within the State. Any provisions incorporated by reference, as well as all permit conditions issued pursuant to such provisions, are enforceable by the EPA pursuant to SDWA section 1423 and 40 CFR 147.1(e).

The EPA compiled the applicable Arizona statutes and regulations proposed to be incorporated by reference into 40 CFR 147.150 in a document titled “Arizona SDWA § 1422 Underground Injection Control Program Statutes and Regulations to be Incorporated by Reference,” dated March 24, 2025. This compilation is publicly available at https://www.regulations.gov in the EPA's Docket No. EPA-HQ-OW-2025-0087 for this proposed rulemaking. The EPA also proposes to codify a table in 40 CFR 147.150 listing the EPA-approved Arizona Statutes and Regulations for Well Classes I-VI that the EPA would incorporate by reference. Additionally, the EPA proposes to list the other Arizona statutes and regulations containing standards and procedures that constitute elements of the State's approved UIC program that do not apply directly to owners or operators in the amendment to 40 CFR 147.150. In accordance with 40 CFR 147.1(c), these other statutes and regulations will not be incorporated by reference.

Upon approval, the EPA would oversee Arizona's administration of its UIC program. The EPA will require quarterly reports on instances of permittee non-compliance and annual UIC performance reports pursuant to 40 CFR 144.8. The MOA between the EPA Region 9 and ADEQ specifies that the EPA will oversee the State's administration of the UIC program on a continuing basis to assure that such administration is consistent with the program MOA, the SDWA, current Federal policies and regulations, promulgated minimum requirements, UIC grant agreements, State and Federal law, and any separate working agreements which are entered into between the Director and the Regional Administrator as necessary for the full administration of the UIC program.

VI. Statutory and Executive Order Reviews

Additional information about these statutes and Executive orders can be found at: https://www.epa.gov/laws-regulations/laws-and-executive-orders.

A. Executive Order 12866: Regulatory Planning and Review

This proposed action is exempt from review under Executive Order 12866, because the Office of Management and Budget (OMB) has exempted, as a category, the approval of State UIC programs.

B. Executive Order 14192: Unleashing Prosperity Through Deregulation

Executive Order 14192 does not apply because actions that approve State UIC Programs are exempted from review under Executive Order 12866.

C. Paperwork Reduction Act (PRA)

This proposed action will not impose an information collection burden under the PRA. OMB has previously approved the information collection activities contained in the existing regulations and has assigned OMB control number 2040-0042. Reporting or recordkeeping requirements will be based on Arizona's UIC Regulations, and the State of Arizona is not subject to the PRA.

D. Regulatory Flexibility Act (RFA)

I certify that this proposed action will not have a significant economic impact on a substantial number of small entities under the RFA. This proposed action will not impose any new requirements on small entities as this action codifies a State program already in effect and transfers primary implementation authority from the EPA to a State program.

E. Unfunded Mandates Reform Act (UMRA)

This proposed action does not contain an unfunded mandate as described in UMRA, 2 U.S.C. 1531-1538, and does not significantly or uniquely affect small governments. The proposed action imposes no enforceable duty on any State, local, or Tribal governments or the private sector. The EPA's proposed approval of Arizona's UIC program will not constitute a Federal mandate because there is no requirement that a State establish a UIC regulatory program and because the program is a State, rather than a Federal program.

F. Executive Order 13132: Federalism

This proposed action does not have federalism implications. It will not have substantial direct effects on the States, on the relationship between the National Government and the States, or on the distribution of power and responsibilities among the various levels of government.

G. Executive Order 13175: Consultation and Coordination With Indian Tribal Governments

This proposed action does not have Tribal implications as specified in Executive Order 13175. This proposed action contains no Federal mandates for Tribal governments and does not impose any enforceable duties on Tribal governments. Thus, Executive Order 13175 does not apply to this proposed action.

H. Executive Order 13045: Protection of Children From Environmental Health and Safety Risks

The EPA interprets Executive Order 13045 as applying only to those regulatory actions that concern environmental health or safety risks that the EPA has reason to believe may disproportionately affect children, per the definition of “covered regulatory action” in section 2-202 of the Executive order. This proposed action is not subject to Executive Order 13045 because it approves a State program.

I. Executive Order 13211: Actions Concerning Regulations That Significantly Affect Energy Supply, Distribution, or Use

This proposed action is not subject to Executive Order 13211, because it is not a significant regulatory action under Executive Order 12866.

J. National Technology Transfer and Advancement Act (NTTAA)

This proposed rulemaking does not involve technical standards.

VII. References

Attorney General's Statement, signed by the Assistant Attorney General, Office of the Arizona Attorney General, September 5, 2024.

Letter from Governor of Arizona to Regional Administrator, EPA Region 9, February 16, 2024.

Memorandum of Agreement between the State of Arizona Department of Environmental Quality and the Environmental Protection Agency, Region 9, signed by the EPA Regional Administrator on March 24, 2025.

Notice of Nomination of Karen Peters to serve as Director of Environmental Quality, signed by Governor Katie Hobbs, February 19, 2025.

Underground Injection Control State of Arizona Primacy Application, Copies of all applicable State statutes and regulations, including those governing State administrative procedures, drafted by Arizona Department of Environmental Quality. March 10, 2025.

Underground Injection Control Primacy Application, Program Description “Arizona Department of Environmental Quality Underground Injection Control Program Description 40 CFR 145.23.” March 2025.

Underground Injection Control State of Arizona Primacy Application, Public Participation Showing, drafted by Arizona Department of Environmental Quality, February 18, 2025.

U.S. Environmental Protection Agency. Proposed “Arizona SDWA § 1422 Underground Injection Control Program Statutes and Regulations to be Incorporated by Reference.” March 25, 2025. Office of Water.

List of Subjects in 40 CFR Part 147

Environmental protection, Incorporation by reference, Indian-lands, Intergovernmental relations, Reporting and recordkeeping requirements, Water supply.

Lee Zeldin,
Administrator.

For the reasons set forth in the preamble, the EPA proposes to amend 40 CFR part 147 as follows:

PART 147—STATE, TRIBAL, AND EPA-ADMINISTERED UNDERGROUND INJECTION CONTROL PROGRAMS

1. The authority citation for part 147 continues to read as follows:

Authority: 42 U.S.C. 300f et seq.; and 42 U.S.C. 6901 et seq.

2. Revise § 147.150 to read as follows:

§ 147.150 State-administered program—Classes I, II, III, IV, V and VI Wells.

The UIC program for Classes I, II, III, IV, V and VI wells in the State of Arizona, except those on Indian lands, is the program administered by the Arizona Department of Environmental Quality, approved by the EPA pursuant to section 1422 of the SDWA. The effective date of this program is [DATE 30 DAYS AFTER DATE OF PUBLICATION OF THE FINAL RULE IN THE FEDERAL REGISTER]. The UIC program for Classes I, II, III, IV, V and VI wells in the State of Arizona, except those located on Indian lands, consists of the following elements, as submitted to the EPA in the State's primacy application.

(a) Incorporation by reference. The requirements set forth in the State statutes and regulations approved by the EPA in “Arizona SDWA § 1422 Underground Injection Control Program Statutes and Regulations to be Incorporated by Reference”, dated March 24, 2025, and listed in table 1 to this paragraph (a), are hereby incorporated by reference and made a part of the applicable UIC program under the SDWA for the State of Arizona. The Director of the Federal Register approves this incorporation by reference in accordance with 5 U.S.C. 552(a) and 1 CFR part 51. Copies of the State of Arizona's statutes and regulations that are incorporated by reference may be inspected at the U.S. Environmental Protection Agency, Region 9, 75 Hawthorne Street, San Francisco, CA 94105 and the U.S. Environmental Protection Agency, Water Docket, EPA Docket Center (EPA/DC), EPA WJC West, Room 3334, 1301 Constitution Ave. NW, Washington, DC 20004. If you wish to obtain materials from the EPA Regional Office, please call (415) 972-3533, or from the EPA Headquarters Library, please call the Water Docket at (202) 566-2426. You may also view this material at the National Archives and Records Administration (NARA). For information on the availability of this material at NARA, visit www.archives.gov/federal-register/cfr/ibr-locations.html or email fr.inspections@nara.gov.

Table 1 to Paragraph (a)—EPA-Approved Arizona SDWA Sec. 1422 Underground Injection Control Program Statutes and Regulations for Well Classes I, II, III, IV, V and VI
State citation | Title/subject | State effective date | EPA approval date
Arizona Revised Statute (ARS) 49-257.01 (B) and (C) | Underground injection control permit program; permits; prohibitions; rules | September 24, 2022 | [DATE OF PUBLICATION OF THE FINAL RULE IN THE FEDERAL REGISTER].
ARS 49-263 (A), (E), and (I) | Criminal violations; classification; definition | August 3, 2018 | [DATE OF PUBLICATION OF THE FINAL RULE IN THE FEDERAL REGISTER].
ARS 49-921 | Definitions | April 29, 1993 | [DATE OF PUBLICATION OF THE FINAL RULE IN THE FEDERAL REGISTER].
ARS 13-105.30 | Definitions | April 14, 2011 | [DATE OF PUBLICATION OF THE FINAL RULE IN THE FEDERAL REGISTER].
Arizona Administrative Code Title 18, Chapter 9, Article 6 | Underground Injection Control | September 6, 2022 | [DATE OF PUBLICATION OF THE FINAL RULE IN THE FEDERAL REGISTER].

(b) Other laws. The following statutes and regulations although not incorporated by reference, also are part of the approved State-administered program:

(1) A.R.S. section 1-211 (General Rules of Statutory Construction);

(2) A.R.S. sections 13-107, 801, and 803 (Criminal Code);

(3) A.R.S. sections 18-106 (Information Technology);

(4) A.R.S. sections 41-1001, 1001.02, 1002, 1003 through 1010, 1011 through 1013, 1021 through 1067, 1072 through 1093.07, and 2051 (Administrative Procedure);

(5) A.R.S. sections 44-7001 through 7061 (Electronic Transactions);

(6) A.R.S. sections 49-104, 203, 205, 208, 224, 250, 257, 257.01(A) and (D), 261-262, 263 (B-D) and (F-H), 264, 265, 321 through 324, 922, and 1403 (The Environment);

(7) A.A.C. R18-1-501 through 525 and Table 10 (Licensing Timeframes);

(8) A.A.C. R18-9-103, C301 through C304, and E323 (Water Pollution Control); and

(9) A.A.C. R18-14-101 through 115 (Water Quality Protection Fees).

(c) Memorandum of Agreement (MOA). (1) The Memorandum of Agreement between the State of Arizona and the EPA, Region 9, signed by the EPA Regional Administrator on March 24, 2025.

(2) Letter from the Governor of Arizona to the Regional Administrator, EPA Region 9, signed on February 16, 2024.

(d) Statement of legal authority. Attorney General's Statement, signed by the Attorney General of Arizona on September 5, 2024.

(e) Program Description. The Program Description, “Arizona Department of Environmental Quality Underground Injection Control Program Description (40 CFR 145.23)”, and any other materials submitted as part of the application or amendment thereto.

3. Revise § 147.151 to read as follows:

§ 147.151 EPA-administered program.

(a) Contents. The UIC program that applies to all injection activities on Indian lands in Arizona, except for Class II wells on Navajo Indian lands for which EPA has granted the Navajo Nation primacy for the SDWA Class II UIC program (as defined in § 147.3400), is administered by EPA. The UIC program for Navajo Indian lands, except for Class II wells on Navajo Indian lands for which EPA has granted the Navajo Nation primacy for the SDWA Class II UIC program, consists of the requirements contained in subpart HHH of this part. The program for all injection activity except that on Navajo Indian lands consists of the UIC program requirements of parts 124, 144, 146, and 148 of this title, and any additional requirements set forth in the remainder of this subpart. Injection well owners and operators, and EPA, shall comply with the requirements of this paragraph (a).

(b) Effective dates. The effective date for the UIC program on Indian lands in Arizona, except for the lands of the Navajo Indians, is June 25, 1984. The effective date for the UIC program on the lands of the Navajo, except for Class II wells on Navajo Indian lands for which EPA has granted the Navajo Nation primacy for the SDWA Class II UIC program (as defined in § 147.3400), is November 25, 1988.

[FR Doc. 2025-08513 Filed 5-16-25; 8:45 am]

BILLING CODE 6560-50-P